DEPARTMENT OF LABOR

Employment and Training Administration

[TA-W-85,051]

VEC Technology, LLC; a Subsidiary of J&D Holdings, LLC; Greenville, Pennsylvania; Notice of Negative Determination Regarding Application for Reconsideration

By application dated April 10, 2014, a company official requested administrative reconsideration of the Department of Labor's negative determination regarding eligibility to apply for worker adjustment assistance, applicable to workers and former workers of VEC Technology, LLC, a subsidiary of J&D Holdings, LLC, Greenville, Pennsylvania (subject firm). The determination was issued on March 21, 2014. The Department's notice of determination was published in the Federal Register on April 8, 2014 (79 FR 19385).

The workers' firm is engaged in activities related to the production of engine hoods, engine cover tooling, and parts for forklifts and drainage trenches.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination of the Trade Adjustment Assistance (TAA) petition filed on behalf of workers at the subject firm was based on the Department's findings that the subject firm did not shift production of engine hoods and associated articles to a foreign country and that neither the subject firm nor its customers imported engine hoods and associated articles, or articles like or directly competitive, during the relevant time period.

In the request for reconsideration, the petitioner asserts that the workers of the subject firm should be eligible to apply for TAA because loss of business that occurred prior to the relevant time period continues to impact the operations of the subject firm.

29 CFR 90.16(b)(3) establishes that the Department find “increases (absolute or relative) of imports of articles like or directly competitive with articles produced by such workers' firm or an appropriate subdivision thereof . . . .”

29 CFR 90.2 states “Increased imports means that imports have increased either absolutely or relative to domestic production compared to a representative base period. The representative base period shall be one year consisting of the four quarters immediately preceding the date which is twelve months prior to the date of the petition.”

In the case at hand, the petition date is February 4, 2014. Therefore, “the twelve months prior” date is February 4, 2013, and the “representative base period” is January 2012 through December 2012. Consequently, imports during January 2013 through December 2013 must have increased from January 2012 through December 2012 levels for the Department to determine that the regulatory definition of “increased imports” is met.

The Department's investigation, which included an inquiry of both subject firm and customer imports, did not reveal increased imports of articles like or directly competitive with those produced at the subject firm during the relevant period.

The petitioner did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 28th day of April, 2014.
Del Min Amy Chen,
Certifying Officer, Office of Trade Adjustment Assistance.

[FR Doc. 2014-11642 Filed 5-20-14; 8:45 am]

BILLING CODE 4510-FN-P